DEPARTMENT OF COMMERCE

National Oceanic and Atmospheric Administration

[I.D. 071405D]

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene a joint meeting of its Standing and Special Reef Fish Scientific and Statistical Committees (SSCs) in New Orleans, LA.

DATES: The meeting will be held Monday, August 1, 2005, from 10 a.m. to 4 p.m.

ADDRESSES: The meeting will be held at the Ramada Inn & Suites, New Orleans Airport, 110 James Drive East, Saint Rose, LA 70087.

Council address: Gulf of Mexico Fishery Management Council, 2203 North Lois Avenue, Suite 1100, Tampa, FL 33607.

FOR FURTHER INFORMATION CONTACT: Steven Atran, Population Dynamics Statistician, Gulf of Mexico Fishery Management Council; telephone: (813) 348-1630.

SUPPLEMENTARY INFORMATION: The Gulf of Mexico Fishery Management Council will convene a meeting of its Standing and Special Reef Fish Scientific and Statistical Committee, to review a Red Snapper Advisory Report prepared by the NMFS and approved by the Southeast Data, Assessment and Review (SEDAR) Assessment Workshop committee. The advisory report contains findings on the red snapper stock status and possible and appropriate management for the stock in accordance with the red snapper rebuilding plan. The SSC previously reviewed the red snapper stock assessment and the SEDAR Assessment Review Workshop's Consensus Report at a meeting held July 5-8, 2005, and found those reports to constitute the best available scientific information, in accordance with national standard two of the Magnuson-Stevens Fishery Conservation and Management Act (M-SFCMA).

Although other non-emergency issues not on the agendas may come before the Council and Committees for discussion, in accordance with the Magnuson-Stevens Fishery Conservation and Management Act, those issues may not be the subject of formal action during these meetings. Actions of the Council and Committees will be restricted to those issues specifically identified in the agendas and any issues arising after publication of this notice that require emergency action under Section 305(c) of the M-SFCMA, provided the public has been notified of the Council's intent to take action to address the emergency.

The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) by July 25, 2005.

Dated: July 15, 2005.
Alan D. Risenhoover,
Acting Director, Office of Sustainable Fisheries, National Marine Fisheries Service.

[FR Doc. E5-3866 Filed 7-19-05; 8:45 am]

BILLING CODE 3510-22-S